DEPARTMENT OF LABOR

Office of the Secretary

Submission for OMB Review; Comment Request

July 10, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or by E-Mail King-Darrin@dol.gov.

Comments should be sent to Office of Information and Regulatory Affairs, Attn: Lauren Wittenberg, OMB Desk Officer VETS, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Veterans' Employment and Training Service (VETS).

Title: VETS-300 Cost Accounting Report and Manager's Report.

OMB Number: 1293-0NEW.

Affected Public: State, Local, or Tribal Government.

Frequency: Quarterly.

Report | Number of respondents | Frequency | Annual responses | Average time per responses (hours) | Burden hours
VETS-300 | 53 | Quarterly (Plus 1 final) | 265 | 1.00 | 265
Manager's Report | 1,200 | Quarterly | 4,800 | 4.00 | 19,200
Total | 1,253 |  | 5,065 | 5.00 | 19,465

Total Annualized Capital/Startup Costs: $0.

Total Annual Costs (operating/maintaining systems or purchasing services): $0.

Description: The VETS-300 Cost Accounting Report provides data on State public employment program expenditures. VETS uses this data for program budgeting and administration purposes and to meet mandated reporting requirements to the President and Congress. Title 38 U.S.C. requires that local employment services provide report not less than quarterly to the Director for Veterans' Employment and Training for the State regarding compliance with Federal law and regulations with respect to special services and priorities for eligible veterans and eligible persons.

Currently, this information is collected by the Employment and Training Administration under OMB control number 1205-0240 which expires September 30, 2001. The information in the VETS-300 AND Manager's Report will no longer be collected under the currently assigned OMB control number. VETS is requesting that OMB approve the continued collection of this information under a new OMB control number.

Ira L. Mills,
Departmental Clearance Officer.

[FR Doc. 01-18150 Filed 7-19-01; 8:45 am]

BILLING CODE 4510-30-M